FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
February 1, 2014 Thru February 28, 2014
02/03/2014
20140470 | G | ThyssenKrupp AG; Outokumpu Ojy; ThyssenKrupp AG.
20140479 | G | Phillip Frost, M.D.; Ladenburg Thalmann Financial Services Inc.; Phillip Frost, M.D.
20140481 | G | Stryker Corporation; Patient Safety Technologies, Inc.; Stryker Corporation.
20140491 | G | EMC Corporation; A.W.S. Holding, LLC; EMC Corporation.
20140499 | G | General Electric Company; Francisco Partners II, L.P.; General Electric Company.
20140508 | G | Zhuzhou Times New Material Technology Co., Ltd.; ZF Friedrichshafen AG; Zhuzhou Times New Material Technology Co., Ltd.
02/04/2014
20140450 | G | AT&T Inc.; Graham Holdings Company; AT&T Inc.
20140457 | G | Google Inc.; Nest Labs, Inc.; Google Inc.
02/06/2014
20140436 | G | Elliott International Limited; Juniper Networks, Inc.; Elliott International Limited.
20140437 | G | Elliott Associates, L.P.; Juniper Networks, Inc.; Elliott Associates, L.P.
20140467 | G | Nidec Corporation; Honda Motor Co., Ltd.; Nidec Corporation.
02/07/2014
20140480 | G | Partners Limited; Mitsui O.S.K. Lines, Ltd.; Partners Limited.
20140493 | G | Oaktree Principal Fund V, L.P.; Diamond Foods, Inc.; Oaktree Principal Fund V, L.P.
20140519 | G | KKR North America Fund XI, L.P.; Sedgwick, Inc.; KKR North America Fund XI, L.P.
20140521 | G | Primero Mining Corp.; Brigus Gold Corp.; Primero Mining Corp.
02/10/2014
20140441 | G | Verizon Communications Inc.; Deutsche Telekom AG; Verizon Communications Inc.
20140442 | G | Deutsche Telekom AG; Verizon Communication Inc.; Deutsche Telekom AG.
20140490 | G | Insight Equity II LP; Material Sciences Corporation; Insight Equity II LP.
02/11/2014
20140509 | G | Lightyear Fund III AIV-2, L.P.; SunTrust Banks, Inc.; Lightyear Fund III AIV-2, L.P.
02/12/2014
20140485 | G | Verizon Communications Inc.; Intel Corporation; Verizon Communications Inc.
20140494 | G | TPG Partners VI, L.P.; Warburg Pincus Private Equity XI, L.P.; TPG Partners VI, L.P.
02/18/2014
20140478 | G | MHR Institutional Partners III LP; Titan International, Inc; MHR Institutional Partners III LP.
20140487 | G | Carl C. Icahn; eBay, Inc.; Carl C. Icahn.
20140501 | G | Valor Equity Partners II, L.P.; Elon Musk; Valor Equity Partners II, L.P.
20140532 | G | Myriad Genetics, Inc.; Crescendo Bioscience, Inc.; Myriad Genetics, Inc.
20140535 | G | Wesco Aircraft Holdings, Inc.; The Resolute Fund, L.P.; Wesco Aircraft Holdings, Inc.
02/19/2014
20140486 | G | Astronics Corporation; European Aeronautic Defense and Space Company EADS N.V.; Astronics Corporation.
20140517 | G | Corvex Master Fund LP; Signet Jewelers Limited; Corvex Master Fund LP.
20140520 | G | Nicholas Schorsch; Lightyear Fund II, L.P.; Nicholas Schorsch.
20140523 | G | Frontier Communications Corporation; AT&T Inc.; Frontier Communications Corporation.
20140528 | G | ValueAct Co-Invest International L.P.; Microsoft Corporation; ValueAct Co-Invest International L.P.
20140538 | G | Brown & Brown, Inc.; The Wright Insurance Group, LLC; Brown & Brown, Inc.
20140541 | G | Nicholas Schorsch; David Perkins; Nicholas Schorsch.
20140542 | G | AltaGas Ltd.; Chevron Corporation; AltaGas Ltd.
20140543 | G | Idemitsu Kosan Co., Ltd.; Chevron Corporation; Idemitsu Kosan Co., Ltd.
02/21/2014
20140405 | G | Newco, a to-be-determined Delaware L.P.; Platinum Equity Capital Partners II, L.P.; Newco, a to-be-determined Delaware L.P.
20140547 | G | General Electric Company; Cameron International Corporation; General Electric Company.
02/24/2014
20140536 | G | The Coca-Cola Company; Green Mountain Coffee Roasters, Inc.; The Coca-Cola Company.
20140546 | G | William C. Young; Constar International Holdings LLC; William C. Young.
20140548 | G | HudBay Minerals Inc.; Augusta Resource Corporation; HudBay Minerals Inc.
20140549 | G | John Milligan, Ph.D.; Gilead Sciences, Inc.; John Milligan, Ph.D.
20140554 | G | KKR North America Fund XI, L.P.; Berkshire Fund VI, Limited Partnership; KKR North America Fund XI, L.P.
02/25/2014
20140539 | G | Cardinal Health; Michael H. Banigan; Cardinal Health.
20140551 | G | Allied Downhole Technologies, LLC; Michael D. Ports and Lori C. Ports; Allied Downhole Technologies, LLC.
20140552 | G | International Forest Products Limited; Boris Zingarevich; International Forest Products Limited.
20140559 | G | Emmis Communications Corporation; YMF Media New York LLC; Emmis Communications Corporation.
20140566 | G | Silver Standard Resources Inc.; Goldcorp Inc.; Silver Standard Resources Inc.
20140569 | G | Carlyle Partners VI Cayman Holdings, L.P.; Illinois Tool Works Inc.; Carlyle Partners VI Cayman Holdings, L.P.
20140572 | G | Acosta Holdco, Inc.; Daymon Worldwide Inc.; Acosta Holdco, Inc.
20140573 | G | TPG Partners VI, L.P.; ProSight Global Holdings Limited; TPG Partners VI, L.P.
02/26/2014
20140518 | G | Star Gas Partners, L.P.; Fortis Inc.; Star Gas Partners, L.P.
20140558 | G | Arsenal Capital Partners III LP; Frankie Keller, Sr.; Arsenal Capital Partners LP.
20140563 | G | The E.W. Scripps Company; Silver Point Capital Fund, L.P.; The E.W. Scripps Company.
20140564 | G | Jeremy M. Jacobs; Shidax Corporation; Jeremy M. Jacobs.
20140567 | G | TPG VI DE AIV II, L.P.; The Baumstark Family Trust; TPG VI DE AIV II, L.P.
20140570 | G | KRG Capital Fund IV, L.P.; ICC-Nexergy, Inc.; KRG Capital Fund IV, L.P.
20140576 | G | Sun Capital Partners Group VI, LLC; Schneider Electric S.A.; Sun Capital Partners Group VI, LLC.
20140578 | G | Silver Standard Resources Inc.; Barrick Gold Corporation; Silver Standard Resources Inc.
02/27/2014
20140575 | G | Public Sector Pension Investment Board; Red Fox Management Holdings, LP; Public Sector Pension Investment Board.
20140588 | G | Golden Gate Capital Opportunity Fund, L.P.; Jos. A. Bank Clothiers, Inc.; Golden Gate Capital Opportunity Fund, L.P.
20140589 | G | Jos. A. Bank Clothiers, Inc.; Golden Gate Capital Opportunity Fund, L.P.; Jos. A. Bank Clothiers, Inc.
20140593 | G | AEA Investors Fund V LP; Gypsum Management and Supply, Inc.; AEA Investors Fund V LP.
02/28/2014
20140461 | G | AEA Investors Small Business Fund II LP; DRTH Holdings, Inc.; AEA Investors Small Business Fund II LP.
20140594 | G | GTCR Fund X/A AIV LP; Cision AB; GTCR Fund X/A AIV LP.

FOR FURTHER INFORMATION CONTACT: Renee Chapman, Contact Representative; or Theresa Kingsberry, Legal Assistant, Federal Trade Commission, Premerger Notification Office, Bureau of Competition, Room H-303, Washington, DC 20580, (202) 326-3100.

By Direction of the Commission.
Donald S. Clark,
Secretary.

[FR Doc. 2014-05192 Filed 3-11-14; 8:45 am]

BILLING CODE 6750-01-M